DEPARTMENT OF HOUSING AND URBAN DEVELOPMENT

[Docket No. FR-6371-D-01]

Order of Succession for the Office of Fair Housing and Equal Opportunity

AGENCY: Office of the Deputy Secretary, HUD.

ACTION: Notice of Order of Succession.

SUMMARY: In this notice, the Deputy Secretary of the Department of Housing and Urban Development designates the Order of Succession for the Office of the Assistant Secretary for the Office of Fair Housing and Equal Opportunity. This Order of Succession supersedes all prior Orders of Succession for the Office of Fair Housing and Equal Opportunity, including the September 13, 2021, Amendment to the Order of Succession published in the Federal Register on November 29, 2011.

APPLICABLE DATE: January 4, 2023.

FOR FURTHER INFORMATION CONTACT: Jaime E. Forero, General Deputy Assistant Secretary, Office of Fair Housing and Equal Opportunity, Department of Housing and Urban Development, 451 7th Street SW, Room 5106; Washington, DC 20410-6000 or telephone number 202-402-6036 (this is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: The Deputy Secretary of the Department of Housing and Urban Development is issuing this Order of Succession of officials authorized to perform the duties and functions of the Office of the Assistant Secretary for the Office of Fair Housing and Equal Opportunity when, by reason of absence, disability, or vacancy in office, the Assistant Secretary for the Office of Fair Housing and Equal Opportunity is not available to exercise the powers or perform the duties of the Office. This Order of Succession is subject to the provisions of the Vacancy Reform Act of 1998 (5 U.S.C. 3345-3349d). This publication supersedes all prior Orders of Succession for the Office of Fair Housing and Equal Opportunity, including the September 13, 2021, Amendment to the Order of Succession published in the Federal Register on November 29, 2011 (76 FR 73984). Accordingly, the Deputy Secretary of HUD designates the following Order of Succession:

Section A. Order of Succession

Subject to the provision of the Federal Vacancies Reform Act of 1998, during any period when, by reason of absence, disability, or vacancy in office, the Assistant Secretary for the Office of Fair Housing and Equal Opportunity is not available to exercise the powers or perform the duties of the Office of the Assistant Secretary for the Office of Fair Housing and Equal Opportunity, the following officials within the Office of Fair Housing and Equal Opportunity are hereby designated to exercise the powers and perform the duties of the Office, including the authority to waive regulations:

(1) Principal Deputy Assistant Secretary;

(2) General Deputy Assistant Secretary;

(3) Deputy Assistant Secretary for Enforcement;

(4) Deputy Assistant Secretary for Operations;

(5) Deputy Assistant Secretary for Policy, Legislative Initiatives, and Outreach;

(6) Associate Deputy Assistant Secretary for Enforcement Compliance; and

(7) Executive Director for Field Operations.

These officials shall perform the functions and duties of the Office in the order specified herein, and no official shall serve unless all the other officials, whose position titles precedes theirs in this order, are unable to act by reason of absence, disability, or vacancy in office. No individual who is serving in an office listed in an acting capacity shall, by virtue of so acting, act as Assistant Secretary for the Office of Fair Housing and Equal Opportunity pursuant to this Order.

Section D. Authority Superseded

This Order of Succession supersedes any prior Orders of Succession for the Office of Fair Housing and Equal Opportunity, including the September 13, 2021, Amendment to the Order of Succession published in the Federal Register on November 29, 2011 (76 FR 73984).

Authority: Section 7(d) of the Department of Housing and Urban Development Act (42 U.S.C. 3535(d)).

Adrianne Todman,
Deputy Secretary of Housing and Urban Development.

[FR Doc. 2023-00188 Filed 1-9-23; 8:45 am]

BILLING CODE 4210-67-P